DEPARTMENT OF TRANSPORTATION

Federal Motor Carrier Safety Administration

[Docket No. FMCSA-2006-23669]

Notice of Request for Clearance of a New Information Collection: Commercial Driver's License Policies and Practices Among the 51 Jurisdictions

AGENCY: Federal Motor Carrier Safety Administration (FMCSA), DOT.

ACTION: Notice and request for comments.

SUMMARY: In accordance with the Paperwork Reduction Act of 1995, this notice announces FMCSA's plan to submit the Information Collection Request (ICR) abstracted below to the Office of Management and Budget (OMB) for approval and comment. The ICR is related to Commercial Driver's License (CDL) policies and practices among the 50 States and the District of Columbia (referred to as the 51 jurisdictions). On October 26, 2005, the agency published a Federal Register notice with a 60-day comment period to solicit the public's views on the information collection pertaining to this subject. Ten comments were received.

DATES: Comments must be submitted on or before March 29, 2006. A comment to OMB is most effective if OMB receives it within 30 days of this publication.

ADDRESSES: Send comments to the Office of Information and Regulatory Affairs, Office of Management and Budget, 725 Seventeenth Street, NW., Washington, DC 20503, Attention: DOT/FMCSA Desk Officer.

FOR FURTHER INFORMATION CONTACT: Ms. Glenda Davis, FMCSA, 400 Seventh Street, SW., Rm. 8304, Washington, DC 20590; phone: 202-366-5209; fax: 202-366-7298; e-mail: glenda.davis@fmcsa.dot.gov or Lorena F. Truett, National Transportation Research Center, 2360 Cherahala Boulevard, Room I-32, Knoxville, TN 37932; phone: 865-946-1306; fax: 865-946-1314; e-mail: TruettLF@ornl.gov.

SUPPLEMENTARY INFORMATION: This package contains the following supplementary information:

Title: Commercial Driver's License Policies and Practices Among the 51 Jurisdictions.

OMB Control Number: 2126-XXXX.

Type of Request: New information collection.

Background: The Commercial Motor Vehicle Safety Act (CMVSA), (Pub. L. 99-570, Title XII, 100 Stat. 3207-170, October 27, 1998), was passed in an effort to improve highway safety as it related to commercial motor vehicle (CMV) drivers. The Commercial Driver's License Program was created as a result of the CMVSA. The Motor Carrier Safety Improvement Act of 1999 (MCSIA), (Pub. L. 106-159, 113 Stat. 1748, December 9, 1999), further strengthened the CDL Program through more vehicle and driver inspections and carrier compliance reviews, stronger enforcement, expedited completion of rules, and effective CDL testing, record keeping, and sanctions. The goal of both the CMVSA and MCSIA was to improve highway safety by ensuring that drivers of commercial motor vehicles were qualified to operate those vehicles and to remove unsafe and unqualified drivers from the highways.

FMCSA conducts Compliance Reviews (CRs) of the 50 States plus Washington, DC, to ensure that the States are complying with the Federal Motor Carrier Safety Regulations. Additional objectives of the State CRs include the following: Identifying technical, operational, and administrative deficiencies in State CDL programs; establishing a mechanism for identifying and correcting serious program deficiencies; and identifying opportunities for CDL fraud.

Based on the results of the State CRs, which were completed in every State, some States had fewer compliance issues than others. It appears, however, that each State was in non-compliance to some degree at the time the CR was conducted in the State. FMCSA believes it is necessary to understand why the States are in non-compliance. While there is anecdotal evidence to suggest that fault may lie with the various processes used within the States, or the Agency's failure to provide adequate guidance, or even with the States' inability to understand the Federal regulations, there has been no systematic effort to determine the cause of non-compliance. For FMCSA to find a solution which brings the States into compliance with the CDL Federal requirements and thereby increase commercial-vehicle safety, FMCSA must obtain input from the States. No other survey of this type is being conducted.

The primary means for obtaining information from the State officials through this survey will be via a password-protected Web site. In the introduction (“welcome screen”) to the questionnaire, the respondent will be provided alternatives for taking the survey via a paper copy or over a phone call with a contractor hired by FMCSA. If the respondent indicates a preference for the paper copy or phone survey, arrangements will be made for administering the survey in the desired format. In addition, any respondents who prefer to be interviewed via a phone call will also be provided an e-mail address so they may submit additional comments if desired.

Respondents: The total number of respondents is 51. Each of the 51 jurisdictions (50 States plus the District of Columbia) will be contacted.

Average Burden per Response: Each response is expected to take about 1 hour to complete.

Estimated Total Annual Burden: The estimated total annual burden is 51 hours (51 responses × 1 hour per response = 51 hours).

Comments are invited on: (a) Whether the proposed collection of information is necessary for the proper performance of the functions of FMCSA, including whether the information will have practical utility; (b) the accuracy of the estimated burden; (c) ways to enhance the quality, utility, and clarity of the information to be collected; and (d) ways to minimize the burden of the collection of information on respondents, without reducing the quality of the collected information. All responses to this notice will be summarized and included in the request for OMB approval.

Issued on: February 17, 2006.
Annette M. Sandberg,
Administrator.

[FR Doc. E6-2680 Filed 2-24-06; 8:45 am]

BILLING CODE 4910-EX-P